DEPARTMENT OF COMMERCE

Bureau of Industry and Security

Action Affecting Export Privilege: Rasheed Al Jijakli; Correction

Summary: In the Federal Register of Monday, October 7, 2019, the Bureau of Industry and Security published an Order denying the export privileges of Rasheed Al Jijakli. The Order inadvertently referenced the U.S. District Court as the “U.S. District Court for the Middle District of Georgia” instead of the “United States District Court for the Central District of California”. This notice is being published to correct the name of the U.S. District Court.

Correction:

In the Federal Register of Monday, October 7, 2019, in FR Doc. 2019-21745, on page 53405, in the first full paragraph of the third column, the correct name of the U.S. District Court should read as follows “. . . in the U.S. District Court for the Central District of California . . .”

Issued this 7th day of November 2019.
Karen H. Nies-Vogel,
Director, Office of Exporter Services.

[FR Doc. 2019-24738 Filed 11-13-19; 8:45 am]

BILLING CODE 3510-DT-P